DEPARTMENT OF THE INTERIOR

Bureau of Land Management

[OR-056-01-1120-JG; H5AC GP2-0058]

Notice of Seasonal Motor Vehicle Closure on Selected Public Lands East of Prineville Reservoir, Crook County, OR

AGENCY: Bureau of Land Management, Prineville District, Deschutes Resource Area, Oregon, Interior.

ACTION: A proposed seasonal closure to motorized vehicle use on certain public lands administered by the Bureau of Land Management (BLM), Deschutes Resource Area, Prineville District, Oregon.

SUMMARY: The BLM is proposing the seasonal closure of certain public lands east of Prineville Reservoir in Crook County from December 1 to May 1 to the use of motorized vehicles.

The purpose of this seasonal closure is to provide safe habitat and forage for wildlife. The area has been identified as crucial mule deer winter range by the Oregon Department of Fish and Wildlife (ODFW), who estimates the wintering population at approximately 300-500 deer. The resident deer population is estimated at approximately 300 head. Present habitat conditions for wintering mule deer are considered fair to good. Elk also inhabit the area in fairly large numbers. Additionally, poaching of big game has been a problem within the area in part due to the road density and limited restrictions on vehicle travel.

Road improvements along with the posting of signs along the designated travel route and the public's observance of traveling only on the designated travel route will reduce soil erosion, improve water quality, improve stream channel and riparian vegetative conditions, improve wildlife habitat, and reduce disturbance to wildlife within the Sand Creek, Sanford Creek, and Deer Creek subwatersheds in accordance with the Upper Prineville Reservoir Activity Plan Environmental Assessment (EA No. OR-056-2-010) and the Brothers/La Pine Resource Management Plan (1989). The soils in the area are known to be steep, shallow, and well-drained yielding medium runoff with a moderate erosion hazard. Current use of motorized vehicles within the area causes increased erosion and soil loss on unstable roads and vehicle trails within the subwatersheds. Compaction of soil by these vehicles inhibits growth of vegetation and also increases runoff. Sand Creek, Sanford Creek, and Deer Creek flow to the northwest through the subject site thereby transporting a large quantity of this eroded soil to Prineville Reservoir ultimately reducing the effectiveness of Prineville Reservoir.

DATES: This closure will take effect upon the published date of this notice or December 1, 2001, whichever is later. The closure is effective annually from December 1 to May 1.

FOR FURTHER INFORMATION CONTACT: Robert Towne, Deschutes Resource Area Field Manager, 3050 NE 3rd Street, Prineville, Oregon 97754, telephone (541) 416-6700. The maps and Environmental Assessment pertaining to this closure can be viewed on the Internet at: www.or.blm.gov/Prineville/planning/EAs/ea_00_095.pdf.

Discussion of the Rules: A gate has been installed at the junction of Doubtful Dirt Road and the unnamed road that provides access to the seasonally closed lands. This junction is located approximately at the center of Section 10, Township 17 South, Range 17 East. A public information kiosk displaying a detailed map of the affected area has also been installed at this junction. Handout maps of the same are also available at the kiosk. In addition, signs have been placed along the designated travel route within the affected area to aid in route navigation during the open season The designated travel route has had some construction improvements for the same purpose.

The public lands affected by this closure are all lands administered by the BLM in Sections 25, 26, 34, 35, and 36 of Township 16 South, Range 17 East; Section 30 of Township 16 South, Range 18 East; Sections 1, 2, 3, 10, 11, 12, 13, 14, and 15 of Township 17 South, Range 17 East; Sections 6, 7, and 18 of Township 17 South, Range 18 East Willamette Meridian, Oregon. Doubtful Dirt Road will remain open continuously. This area is known as Deer Creek, Sanford Creek, and Sand Creek Watersheds. Closure signs will be posted at all road entry points. Maps of the closure area may be obtained from the Prineville District Office or the public information kiosk at the east end of Doubtful Dirt Road.

Prohibited Act: Under 43 CFR 8364.1, the Bureau of Land Management will enforce the following rule within the Deer Creek, Sanford Creek, and Sand Creek closure area:

i. Operation of motorized vehicles is prohibited December 1 to May 1.

ii. Cutting and/or removal of firewood is not allowed.

Exemptions: Persons who are exempt from this rule include any Federal, State, or local officer or employee in the scope of their duties, members of any organized rescue or fire-fighting force in performance of an official duty, and any person authorized in writing by the Bureau of Land Management.

Penalties: The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Dated: December 17, 2001.
A. Barron Bail,
District Manager.
Editorial Note: This document was received in the Office of the Federal Register on June 21, 2002.

[FR Doc. 02-16011 Filed 6-24-02; 8:45 am]

BILLING CODE 4310-33-P